DEPARTMENT OF DEFENSE

Department of the Army, Corps of Engineers

Availability of Partially Exclusive, Exclusive or Non Exclusive License

AGENCY: Department of the Army, U.S. Corps of Engineers, DoD.

ACTION: Notice.

SUMMARY: The Department of the Army, U.S. Army Corps of Engineers, announces the general availability of partially exclusive, exclusive or non exclusive licenses under the following pending patents listed under SUPPLEMENTARY INFORMATION. Any license granted shall comply with 35 U.S.C. 209 and 37 CFR part 404.

DATES: Applications for an exclusive or partially exclusive license may be submitted at any time from the date of this notice. However, no exclusive or partially exclusive license shall be granted until August 14, 2006.

ADDRESSES: Humphreys Engineer Center Support Activity, Office of Counsel, 7701 Telegraph Road, Alexandria, VA 22315-3860.

FOR FURTHER INFORMATION CONTACT: Patricia L. Howland (703) 428-6672.

SUPPLEMENTARY INFORMATION: 1. Title: Embedded Barrier to Fluid Flow. An Electro-Osmotic Pulse (EOP) system is used to dewater structure, both natural and manmade. Preferably, the system employs durable, dimensionally stable anodes affixed to structure in a configuration designed to maximize electrical contact with the structure and minimize electrode gas generation. The anodes and cathodes are attached to a DC power supply that provides a voltage potential between them. DC power is cycled until the structure has been sufficiently treated. Select embodiments employ perforated metal pipes as cathodes for the purpose of transport and drainage of fluids. In select embodiments of the present invention, the cathodes are connected to variable resistors designed to reduce opportunity for corrosion of buried metal objects in the vicinity of the EOP system. Select embodiments employ a pre-specified pulse train of DC voltage pulses to migrate water from under a crawl space while moving available cations in the soil. Select embodiments also protect large structures such as concrete dams.

Serial No: 10/421,922.

Date: April 24, 2004.

2. Title: Detecting, Classifying and Localizing Minor Amounts of an Element Within a Sample of Material. Minute amounts of material, such as a contaminant, are detected, classified and located using a single procedure that eliminates the need for using complex and sometimes redundant instrumentation setups, multiple (and sometimes overlapping) analytic processes, or both. In one embodiment, a series of processing steps enables one to detect, classify, and localize minute amounts of particular elements, e.g., contaminants, in material being tested. Data sets, suitable for characterizing components of samples at least spectrally and spatially, are collected from at least one uncontaminated sample of material (the “baseline” or “control”) and a sample of material under test (MUT) that may contain contaminants. Comparison of these data sets, using the procedures of the present invention, enables ready classification of minute amounts of material in any sample. The present invention may be used for liquids, solids, and gases, with specific application to gels, pastes, hard powders, soft powders, films, inorganics, and pharmaceuticals.

Serial No: 10/890,844.

Date: July 9, 2004.

3. Title: Modular Bullet Trap Cover. A modular bullet trap cover element generally includes a shell filled with a projectile trapping medium, preferably a mixture of a resilient granular ballistic medium and a hydrated super absorbent polymer (SAP) gel. The shell may be made of any of a number of fabric or polymeric materials. In embodiments, the shell includes at least two bags, an inner bag and at least one outer bag, each of which has an open end and a sealed end, connected to one another such that the outer bags may be inverted over the inner bag to cover at least a portion thereof. The modular cover element is formed by filling the inner bag with the projectile trapping medium and then inverting the outer bags to produce a multi-layer shell. In embodiments, the outer bags and inner bag are rotatably connected, permitting the outer bags to be rotated with respect to the inner bag such that bullet holes in the inner and outer bags no longer line up with each other. Several modular cover elements may be fixedly or releasably interconnected, preferably in a mattress-like arrangement, to form a bullet trap cover.

Serial No: 10/890,846.

Date: July 9, 2004.

4. Title: A Method and System for Treating Contaminants and Odors in Airborne Emissions. A second-generation rotating biofilter employing microorganisms in a microbiological film (biofilm) “mineralizes” contaminants, such as VOCs and odoriferous contaminants. Contaminated fluid, such as air from manufacturing processes, is directed radially outward from a perforated pipe through porous foam attached to the pipe. The pipe serves as the axis upon which layers of foam suitable for supporting formation of biofilms are placed. In one embodiment, an octagonal-shaped drum incorporates eight baskets. In each basket, foam is layered outwardly from the pipe in trapezoidal-shaped layers each of approximately 3.8 cm thickness, each layer separated by air gaps of approximately 1.3 cm to prevent clogging. Seven layers in each of eight baskets comprise the octagonal drum. When the drum is sprayed on one side, water soaks the media and it is heavier on that side, thus facilitating rotation of the drum. Further, the biofilms are supplied with moisture and supplemental nutrients as needed.

Serial No: 10/911,763.

Date: August 4, 2004.

5. Title: Self-Dispensing Bullet Trap Buffer Block. An additive for buffering a projectile trapping medium and spent projectile strapped therein is a buffering compound formed as a low density foamed concrete block that will self-dispense via fragmentation or pulverization when subjected to incoming fire. The block combines at least one dry component selected from the group consisting of low solubility phosphate compounds, low solubility aluminum compounds, iron compounds; sulfate compounds, and calcium carbonate with a cementing material, water, and an aqueous based foam in substantially stoichiometric amounts. The aqueous based foam is added in a quantity sufficient to adjust the density of the resulting block to be non-buoyant without sinking in the projectile trapping medium. The additive may be employed in a projectile trapping medium to chemically stabilize the medium and environmentally stabilize projectiles trapped therein.

Serial No: 10/911,771.

Date: August 4, 2004.

6. Title: Portable System For Measuring Dynamic Pressure in Situ and Method of Employment Therefor. A dynamic pressure testing or calibration system packaged as a portable unit for characterizing pressure sensors, such as transducers. Embodiments are packaged for carry on the body, are battery-operated, compatible with existing transducer mounts, and quickly learned and easily used by a single operator. The system supplies a pre-specified impulse (pressure pulse) of fluid, preferably a benign gas, such as air, or an inert gas such as helium or nitrogen. In select embodiments, the gas pulse has a fast rise time and its amplitude may be varied over a pre-specified dynamic range. For example, the rise time may emulate that of an impulse created during an explosion by a resultant pressure wave, i.e., less than 100 microseconds. Embodiments also incorporate a data acquisition capability that accurately captures and records both the supplied impulse and the response of the sensor under test.

Serial No: 10/991,219.

Date: November 18, 2004.

7. Title: An Implant and Forget Mechanism to Interact with Biota. An “implant and forget” device for interacting with biota after a pre-established time period. Preferably, the biota are fauna and more particularly fish. In select embodiments, the device comprises packaging enclosing means for timing interaction via opening the packaging. In select embodiments of the present invention, the device is a sealed capsule inserted in fish. Embodiments of the present invention are implanted in triploid grass carp (Ctenopharyngodon idella) to facilitate control of aquatic weeds in bodies of water. When the carp have been in the water for a pre-established approximate period of time, toxins in the device are dispensed via long term bioerosion of the sealed opening in the packaging. Otherwise, the carp may destroy all vegetation and harm the aquatic environment for other aquatic life. Several alternative bioerodible seal configurations are provided as embodiments.

Serial No: 11/179,541.

Date: July 13, 2005.

8. Title: Functionality Index (F) For Use With an Engineering Management System (EMS). A top-down tiered process establishes an objective measure of the functional capacity of an asset to address a specified use. The process comprises: Developing Issue Categories and lists of functional impact Sub-issue Types and specific issues under each type that may impact functionality of the asset for a specified use; providing the list to evaluators; employing evaluators to evaluate functionality, evaluators assigning a numerical Severity measure to each Sub-issue Type present during the evaluation; recording occurrences of issues under each Sub-issue Type discovered, summing occurrences to determine a Density of each Sub-issue Type; recording the evaluation in one or more engineering management systems (EMS); and using the recorded evaluation, calculating a value to be inserted on a numerical scale as a functionality index, F1. In select embodiments of the present invention, a numerical scale is used with values from 0-100.

Serial No: 11/194,655.

Date: August 2, 2005.

9. Title: A Process For Treating Waste From The Production of Energetics. A waste stream is treated in a pre-filter having media, preferably sand, connected below a zero-valent metal column reactor incorporating a metal with reducing potential, preferably elemental iron (FeO); the combination preferably configured as a single unit. The waste stream is pumped through the pre-filter to trap solids and deoxygenate it, then enters the reactor and is subjected to a reducing process. Most of the FeO is transformed to the ferrous ion (Fe +2), mixed with the reduced product, and fed to a continuous stirred tank reactor (CSTR) in which Fenton oxidation occurs. The output is then sent to a sedimentation tank and pH-neutralized using a strong base such as sodium hydroxide (NaOH). The aqueous portion is drawn off and the sludge pumped from the sedimentation tank. The system is monitored and controlled to optimize required additives, while monitoring of pressure drop across the pre-filter and column reactor establishes replacement requirements.

Serial No: 11/229,441.

Date: September 8, 2005.

10. Title: Condition Lifecycle Mathematical Model and Process. Initial assumptions related to the service life of a particular item, such as a component section of a building, are mathematically modeled to construct an initial lifecycle condition relationship as condition index (CI) v. time. To update the model, empirical data may be input at any time. As modeled in an engineering management system, for example, inspections are performed on the item to verify actual condition with that predicted. Quantitative inspection data are then used to update the initial curve. As inspections are performed and data recorded, the curve is updated to accurately capture observed condition and provide realistic estimates of predicted condition, and expected service life. In select embodiments of the present invention, empirical data, such as that from inspections, are weighted, e.g., inspection data may be weighted based on type, level of detail, time in service, time since last inspection and the like.

Serial No: 11/223,251.

Date: August 2, 2005.

11. Title: System and Method for Increasing the Bond Strength Between A Structural Material and its Reinforcement Agency. This invention involves the coating of a reinforcing material, such as a metal, increasing the adhesion between the material and the matrix, such as a cement-based mortar or concrete, in which the material is imbedded. In one embodiment, a glass frit mixed with a refractory material, such as dry Portland cement, is bonded by heat to the surface of the reinforcing material. The reaction of the refractory component when the metal is embedded in fresh mortar or concrete prevents the formation of soft precipitates at the interface. One embodiment involves mixing Portland cement with the glass frit as a coating, coating a steel rod and firing the coating to bond to the metal. The frit-refractory coating produces a strong bond between the metal and the concrete or mortar matrix and may significantly reduce the potential for the corrosion of the steel.

Serial No: 11/234,184.

Date: September 8, 2005.

Richard L. Frenette,
Counsel.

[FR Doc. E6-7331 Filed 5-12-06; 8:45 am]

BILLING CODE 3710-92-P